DEPARTMENT OF THE INTERIOR

Bureau of Indian Affairs

Public Meetings on Development of Proposed Regulations Governing Tribal Energy Resource Agreements

AGENCY: Bureau of Indian Affairs, Interior.

ACTION: Notice of public meetings.

SUMMARY: In accordance with Title V, Section 504 of the Energy Policy Act of 2005 and Executive Order 13175, the Department of the Interior (DOI), Office of Indian Energy and Economic Development, seeks to consult on the development of proposed regulations to govern Tribal Energy Resource Agreements. We invite public comments at one or more of a series of meetings between January 9 and 19, 2006.

DATES: See SUPPLEMENTARY INFORMATION section for meeting dates and locations.

ADDRESSES: Send written comments by regular mail to Attention: Section 503 Rulemaking, Office of Indian Energy and Economic Development, 1849 C St., NW., Mail Stop 2749, Washington, DC, 20240 or by e-mail to IEED@bia.edu.

FOR FURTHER INFORMATION CONTACT: Mr. Darryl Francois, Office of Indian Energy and Economic Development, 1849 C St., NW., Mail Stop 2749-MIB, Washington, DC 20240. He can also be reached by telephone at (202) 219-0740 or by electronic mail at darryl.francois@mms.gov.

SUPPLEMENTARY INFORMATION:

Meeting Schedule

Date | City | Meeting location
January 9, 2006 | Sacramento, CA | Hilton Sacramento Arden West, 2200 Harvard Street.
January 9, 2006 | Houston, TX | Hilton Garden Inn, Bush Intercontinental Airport, 15400 John F. Kennedy Boulevard.
January 10, 2006 | Tulsa, OK | Hilton Garden Inn, Tulsa Airport, 7728 East Virgin Court.
January 10, 2006 | Billings, MT | Sheraton Billings, 27 North 27th Street.
January 11, 2006 | Portland, OR | Doubletree Hotel & Executive Meeting Center, 1000 NE Multnomah.
January 11, 2006 | Minneapolis, MN | Hilton Minneapolis/St. Paul Airport Mall of America, 3800 American Boulevard East.
January 12, 2006 | Denver, CO | Country Inn Suites, Denver International Airport, 4343 Airport Way.
January 13, 2006 | Albuquerque, NM | Albuquerque Marriott, 2101 Louisiana Boulevard NE.
January 13, 2006 | Las Vegas, NV | Renaissance Hotel, 3000 Paradise Road.
January 19, 2006 | Washington, DC | Sydney Yates Auditorium, Main Interior Building, 1849 C St., NW.

Title V, Section 503 of the Energy Policy Act of 2005 (Pub. L. 109-58), requires the Secretary of the Interior (Secretary) to promulgate regulations that implement new provisions concerning development of energy resources on tribal lands. Specifically, the Act authorizes the creation of Tribal Energy Resource Agreements (TERA). The purpose of these agreements is to promote tribal oversight and management of energy and mineral resource development on tribal lands and further the goal of Indian self-determination.

The Department of the Interior requests public comment on all areas of concern regarding the development of and regulation of TERAs. In addition to general comments on the impact of Title V of the Energy Policy Act of 2005 on Indian tribes, we are asking for specific feedback on the following issues raised by the Act:

• Issue: The Act sets a specific time limit for the Secretary to approve or disapprove an original or revised TERA.

Question: What criteria should the Secretary use to determine whether or not a proposed TERA contains sufficient technical and programmatic information for DOI to “start the clock” and proceed with an evaluation to approve or disapprove an original or revised TERA?

• Issue: The Act states that the Secretary shall approve a TERA if the Indian tribe has sufficient capacity to regulate the development of its energy resources.

Question: What criteria should the Secretary use to determine whether or not an Indian tribe has sufficient capacity to regulate the development of its energy resources?

• Issue: The Act states that with respect to a lease, business agreement, or right-of-way, a TERA must include provisions that ensure the acquisition of necessary information from the applicant.

Question: What constitutes “necessary” information?

• Issue: The Act states that with respect to a lease, business agreement, or right-of-way, a TERA must include provisions that address technical or other relevant requirements.

Question: What are the “technical or other relevant requirements” that must be included in a TERA?

• Issue: The Act states that with respect to a lease, business agreement, or right-of-way, a TERA must establish a process for environmental review of energy development projects in accordance with certain minimum requirements.

Question: What additional environmental review requirements above the minimum should the Secretary require for a TERA?

• Issue: The Act states that a lease, business agreement, or right-of-way granted by a TERA shall contain provisions that allow the Secretary to suspend or rescind the agreement if a material violation of the agreement occurs.

Question: What constitutes a “material” breach of the terms of a lease, business agreement, or right-of-way? Further, what options should the Secretary make available to tribes to allow for corrective action to TERA-authorized operations to remove the cause of a “material” breach?

• Issue: The Act states that a TERA should provide a process for ensuring that the public is informed of and has an opportunity to comment on the environmental impact of the proposed action.

Question: What should be the required key elements of a TERA public review process including, but not limited to, format, timing, and frequency?

• Issue: The Act states that a TERA should provide a process for ensuring that responses to relevant and substantive public comments are provided before tribal approval of the lease, business agreement, or right-of-way.

Question: How should tribes fulfill this requirement?

We encourage you to pay particular attention to these questions as you consider submitting comments on the regulatory framework for energy development in tribal lands.

Executive Order 13175 requires the Federal Government to consult with tribal officials in the development of Federal policies that have substantial direct effects on one or more Indian tribes. We chose the meeting locations to allow for increased participation by tribal officials. In addition, we will send out letters to tribal officials advising them of and encouraging them to participate in the meetings.

Meetings are open to the public, without advance registration, from 8 a.m. to 12 p.m. DOI staff will be available starting at 1 p.m. to meet with tribal representatives for government-to-government information exchange.

If you wish to speak during a public session you must sign up to do so upon arrival. The order of speakers will follow the sign-up sheet. Public attendance is limited to the space available. Speakers may be time-limited if a large number of people wish to speak.

If you are unable to attend these meetings, but want to provide comments, please send written comments by regular mail to Attention: Section 503 Rulemaking, Office of Indian Energy and Economic Development, 1849 C St., NW., Mail Stop 2749, Washington, DC, 20240 or by e-mail to IEED@bia.edu.

Dated: December 6, 2005.
Michael D. Olsen,
Acting Principal Deputy Assistant Secretary for Indian Affairs.

[FR Doc. 05-23913 Filed 12-8-05; 8:45 am]

BILLING CODE 4310-96-P